DEPARTMENT OF AGRICULTURE

Agricultural Marketing Service

7 CFR Part 956

[Docket No. FV02-956-1 PR]

Sweet Onions Grown in the Walla Walla Valley of Southeast Washington and Northeast Oregon; Withdrawal of a Proposed Rule

AGENCY: Agricultural Marketing Service, USDA.

ACTION: Withdrawal of proposed rule.

SUMMARY: This action withdraws a proposed rule published in the Federal Register on July 22, 2002 (67 FR 47741), and reopened for further comments on November 1, 2002 (67 FR 66578), on the establishment of grade and inspection requirements for Walla Walla sweet onions. The order regulates the handling of sweet onions grown in the Walla Walla Valley of Southeast Washington and Northeast Oregon and is administered locally by the Walla Walla Sweet Onion Marketing Committee (Committee). The Committee met on November 21, 2002, and unanimously recommended changes to its original recommendation. The administrative record raises questions as to the nature and purpose of the proposal and possible alternatives. Therefore, the proposed rule is being withdrawn for further consideration by the Committee.

DATES: Effective April 1, 2003.

FOR FURTHER INFORMATION CONTACT: Robert J. Curry, Northwest Marketing Field Office, Marketing Order Administration Branch, Fruit and Vegetable Programs, AMS, USDA, 1220 SW Third Avenue, Suite 385, Portland. Oregon 97204; telephone: (503) 326-2724, Fax: (503) 326-7440; or George Kelhart, Technical Advisor, Marketing Order Administration Branch, Fruit and Vegetable Programs, AMS, USDA, 1400 Independence Avenue SW., STOP 0237, Washington, DC 20250-0237; telephone: (202) 720-2491, Fax: (202) 720-8938.

Small businesses may request information on complying with this regulation by contacting Jay Guerber, Marketing Order Administration Branch, Fruit and Vegetable Programs, AMS, USDA, 1400 Independence Avenue SW., STOP 0237, Washington, DC 20250-0237; telephone: (202) 720-2491, Fax: (202) 720-8938, or E-mail: Jay.Guerber@usda.gov.

SUPPLEMENTARY INFORMATION: Marketing Agreement and Order No. 956, both as amended (7 CFR part 956), regulate the handling of Walla Walla sweet onions grown in Southeast Washington and Northeast Oregon, hereinafter referred to as the “order.” The order is effective under the Agricultural Marketing Agreement Act of 1937, as amended (7 U.S.C. 601-674), hereinafter referred to as the “Act.”

This action withdraws a proposed rule published in the Federal Register on July 22, 2002 (67 FR 47741), and reopened for further comments on November 1, 2002 (67 FR 66578), on the establishment of grade and inspection requirements for Walla Walla sweet onions. Specifically, the proposed rule would have required all Walla Walla sweet onions handled prior to June 10 of each marketing season to be inspected and be at least U.S. Commercial grade. In addition, the Committee would have funded the total cost of all required inspections. The primary intent behind the proposal was to help ensure the maturity and marketability of early season sweet onions. A secondary goal was to help prevent onions from other production areas from being mislabeled and marketed as Walla Walla sweet onions.

During the initial comment period, July 22 through September 20, the Department of Agriculture (USDA) received one timely comment. This comment, which may be reviewed on the Internet at http://www.ams.usda.gov/fv/modockets/956%20comments/2002onions.htm, raised several questions regarding the proposal. To facilitate further public review of the proposed rule, USDA reopened the comment period from November 1 through November 22, 2002.

During the reopened comment period, the Committee met and unanimously recommended early mandatory inspections on Walla Walla sweet onions, but prior to June 1 of each year rather than June 10 as originally recommended. The Committee believes that a requirement for valid inspection certificates on all lots of Walla Walla sweet onions being shipped prior to June 1 would enhance compliance efforts in the prevention of the misrepresentation and mislabeling of onions.

The administrative record raises questions as to the nature and purpose of the proposal and possible alternatives. Therefore, the proposed rule is being withdrawn for further consideration by the Committee.

The proposed rule regarding the establishment of grade and inspection requirements for sweet onions grown in the Walla Walla Valley of Southeast Washington and Northeast Oregon published in the Federal Register July 22, 2002, (67 FR 47741) is hereby withdrawn.

List of Subjects in 7 CFR Part 956

Marketing Agreements, Onions, Reporting and recordkeeping requirements.

Authority: 7 U.S.C. 601-674.

Dated: March 24, 2003.
A.J. Yates,
Administrator, Agricultural Marketing Service.

[FR Doc. 03-7632 Filed 3-28-03; 8:45 am]

BILLING CODE 3410-02-P